DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: The Nursing Scholarship Program (NSP): NEW

The Nursing Scholarship Program (NSP or “Nursing Scholarship”) is a competitive Federal program which awards scholarships to individuals for attendance at schools of nursing. The scholarship consists of payment of tuition, fees, other reasonable educational costs, and a monthly support stipend. In return, the students agree to provide a minimum of 2 years of full-time clinical service (or an equivalent part-time commitment, as approved by the NSP) at a health care facility with a critical shortage of nurses.

Nursing scholarship recipients must be willing and are required to fulfill their NSP service commitment at a health care facility with a critical shortage of nurses in the United States (U.S.), the District of Columbia, the Commonwealth of Puerto Rico, the Territory of Guam, the Commonwealth of the Northern Marianas, the U.S. Virgin Islands, the Territory of American Samoa, the Republic of Palau, or the Republic of the Marshall Islands of the Federated States of Micronesia. Students who are uncertain of their commitment to provide nursing in a health care facility with a critical shortage of nurses in the U.S. are advised not to participate in this program.

The NSP needs to collect data to determine an applicant's eligibility for the program to monitor a participant's continued enrollment in a school of nursing, to monitor a participant's compliance with the NSP service obligation, and to obtain data on its program to ensure compliance with legislative mandates and prepare annual reports to Congress. The following information will be collected: (1) From the applicants and/or the schools, general applicant and nursing school data such as full name, location, tuition/fees, and enrollment status; (2) from the schools, on an annual basis, data concerning tuition/fees and student enrollment status; and, (3) from the participants and their health care facilities with a critical shortage of nurses, on a bi-annual basis, data concerning the participant's employment status, work schedule and leave usage.

The burden estimates are as follows:

Form | Number of respondents | Responses per respondent | Total responses | Hours per response | Total burden hours
Application | 3,500 | 1 | 3,500 | 1.25 | 4,375
Data Collection Worksheet | *300 | 1 | 300 | .25 | 75
School Verification Form | *300 | 2 | 600 | .25 | 150
Employment Certification Form | 300 | 2 | 600 | .25 | 150
Total | 4,100 |  | 5,000 |  | 4,750
*Respondents for these forms are the academic institution for the applicant.

Written comments and recommendations concerning the proposed information collection should be sent within 30 days of this notice to: John Kraemer, Desk Officer, Human Resources and Housing Branch, Office of Management and Budget, New Executive Office Building, Room 10235, Washington, DC 20503.

Dated: May 22, 2006.
Tina M. Cheatham,
Director, Division of Policy Review and Coordination.

[FR Doc. E6-8286 Filed 5-26-06; 8:45 am]

BILLING CODE 4165-15-P